DEPARTMENT OF TRANSPORTATION

Federal Aviation Administration

Notice of Intent To Request Approval From the Office of Management and Budget of a Currently Approved Information Collection Activity, Request for Comments; Revisions to Digital Flight Data Recorders

AGENCY: Federal Aviation Administration (FAA), DOT.

ACTION: Notice and request for comments.

SUMMARY: The FAA invites public comments about our intention to request the Office of Management and Budget (OMB) to approve a current information collection. This rule request that certain airplanes be equipped to accommodate additional digital flight data recorder parameters. The revisions require additional information to be collected to enable more thorough accident or incident investigation and to enable industry to predict certain trends and make necessary modifications before an accident or incident happens.

DATES: Please submit comments by May 15, 2006.

FOR FURTHER INFORMATION CONTACT: Judy Street on (202) 267-9895, or by e-mail at: Judy.Street@faa.gov.

SUPPLEMENTARY INFORMATION:

Federal Aviation Administration (FAA)

Title: Revisions to Digital Flight Data Recorders.

Type of Request: Approval of a currently approved collection.

OMB Control Number: 2120-0616.

Forms(s): NA.

Affected Public: An estimated 2,960 Respondents.

Frequency: This is a passive information collection.

Estimated Average Burden Per Response: This is a passive information collection activity. Responses are recorded automatically in the aircraft's digital flight data recorder.

Estimated Annual Burden Hours: 1 hour annually.

Abstract: This rule requires that certain airplanes be equipped to accommodate additional digital flight data recorder parameters. The revisions require additional information to be collected to enable more thorough accident or incident investigation and to enable industry to predict certain trends and make necessary modification before an accident or incident happens.

ADDRESSES: Send comments to the FAA at the following address: Ms. Judy Street, Room 1033, Federal Aviation Administration, Standards and Information Division, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; ;and ways to minimize the burden of the collection of information on respondents, including the use of automated collection techniques or other forms of information technology.

Issued in Washington, DC, on March 9, 2006.
Judith D. Street,
FAA Information Collection Clearance Officer, Information Systems and Technology Services Staff, ABA-20.

[FR Doc. 06-2493 Filed 3-14-06; 8:45 am]

BILLING CODE 4910-13-M